DEPARTMENT OF LABOR

Employment and Training Administration

[TA-W-74,281]

Humana Insurance Company a Division of Carenetwork, Inc. Front End Operations and Account Installation-Product Testing Groups, De Pere, WI; Notice of Revised Determination on Reconsideration

By applications dated August 23, 2010 and September 9, 2010, petitioners requested administrative reconsideration of the Department's negative determination regarding the eligibility of workers and former workers of Humana Insurance Company, a Division of CareNetwork, Inc., Front End Operations and Account Installation-Product Testing Groups, Green Bay, Wisconsin, to apply for Trade Adjustment Assistance (TAA).

On September 9, 2010, the Department issued a Notice of Affirmative Determination Regarding Application for Reconsideration. The Department's Notice was published in the Federal Register on September 21, 2010 (75 FR 57502).

During the reconsideration investigation, the Department received information that the worker group is in De Pere, and not Green Bay, Wisconsin. Accordingly, the subject workers are workers at Humana Insurance Company, a Division of CareNetwork, Inc., Front End Operations and Account Installation-Product Testing Groups, De Pere, Wisconsin, who are engaged in employment related to the supply of health insurance benefits.

During the reconsideration investigation, the Department confirmed that a significant proportion or number of workers at Humana Insurance Company, a Division of CareNetwork, Inc., Front End Operations and Account Installation-Product Testing Groups, De Pere, Wisconsin, was totally or partially separated, or threatened with such separation, during the relevant period.

Based on the new information obtained during the reconsideration investigation, the Department determines that the subject firm shifted to a foreign country the supply of services like or directly competitive with those provided by the Front End Operations and Account Installation-Product Testing Groups, De Pere, Wisconsin, and that the shift contributed importantly to worker group separations.

Conclusion

After careful review of the additional facts obtained during the reconsideration investigation, I determine that workers of Humana Insurance Company, a Division of CareNetwork, Inc., Front End Operations and Account Installation-Product Testing Groups, De Pere, Wisconsin, who are engaged in employment related to the supply of health insurance benefits, meet the worker group certification criteria under Section 222(a) of the Act, 19 U.S.C. 2272(a). In accordance with Section 223 of the Act, 19 U.S.C. 2273, I make the following certification:

All workers of Humana Insurance Company, a Division of CareNetwork, Inc., Front End Operations and Account Installation-Product Testing Groups, De Pere, Wisconsin, who are engaged in employment related to the supply of health insurance benefits, who became totally or partially separated from employment on or after June 11, 2009, through two years from the date of this revised certification, and all workers in the group threatened with total or partial separation from employment on date of certification through two years from the date of certification, are eligible to apply for adjustment assistance under Chapter 2 of Title II of the Trade Act of 1974, as amended.

Signed in Washington, DC this 9th day of November, 2010.
Del Min Amy Chen,
Certifying Officer, Office of Trade Adjustment Assistance.

[FR Doc. 2010-29101 Filed 11-17-10; 8:45 am]

BILLING CODE 4510-FN-P